DEPARTMENT OF HOMELAND SECURITY

Coast Guard

33 CFR Part 117

[Docket No. USCG-2016-1038]

Drawbridge Operation Regulation; Harlem River, New York, NY

AGENCY: Coast Guard, DHS.

ACTION: Notice of deviation from drawbridge regulation; modification.

SUMMARY: The Coast Guard has modified a temporary deviation from the operating schedule that governs the 125th Street (Triborough) Bridge across the Harlem River, mile 1.3, at New York, NY. This modified deviation extends the period the bridge may remain in the closed-to-navigation position and is necessary to facilitate rehabilitation of the mechanical and electrical components of the bridge.

DATES: This modified deviation is effective from 12:01 a.m. May 16, 2017 to 11:59 p.m. June 19, 2017.

ADDRESSES: The docket for this deviation, USCG-2016-1038 is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4330, email judy.k.leung-yee@uscg.mil.

SUPPLEMENTARY INFORMATION: On December 22, 2016, the Coast Guard published a temporary deviation entitled “Drawbridge Operation Regulation; Harlem River, New York, New York” in the Federal Register (81 FR 93820). That temporary deviation allows the bridge to be in the closed position from January 17, 2016 through May 15, 2017. The bridge owner, Triborough Bridge and Tunnel Authority (TBTA), has requested a modification of the currently published deviation to extend the bridge closure from May 15, 2017 to June 19, 2017 in order to facilitate rehabilitation of the mechanical and electrical components of the bridge.

The 125th Street Bridge, mile 1.3, across the Harlem River, has a vertical clearance in the closed position of 54 feet at mean high water and 59 feet at mean low water. The existing bridge operating regulations are found at 33 CFR 117.789(b)(1).

Although the waterway is transited by commercial tugs, barges and recreational vessels, there have been no requests for bridge openings in the past two years. The Coast Guard notified known companies of the commercial vessels that transit the area, the NYPD, and the FDNY; there were no objections to this temporary deviation modification.

Under this temporary deviation modification, the 125th Street Bridge may remain in the closed position from May 16, 2017 to June 19, 2017. Vessels able to pass under the bridge in the closed position may do so at any time. The bridge will not be able to open for emergencies and there is an alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: April 20, 2017.
C.J. Bisignano,
Supervisory Bridge Management Specialist, First Coast Guard District.

[FR Doc. 2017-09159 Filed 5-4-17; 8:45 am]

BILLING CODE 9110-04-P